INTERNATIONAL TRADE COMMISSION

[Investigation Nos. 731-TA-929-931 (Second Review)]

Silicomanganese From India, Kazakhstan, and Venezuela

Determination

On the basis of the record ¹ developed in the subject five-year reviews, the United States International Trade Commission (Commission) determines, pursuant to section 751(c) of the Tariff Act of 1930 (19 U.S.C. 1675(c)), that revocation of the antidumping duty orders on imports of silicomanganese from India, Kazakhstan, and Venezuela would be likely to lead to continuation or recurrence of material injury to an industry in the United States within a reasonably foreseeable time.²

¹ The record is defined in sec. 207.2(f) of the Commission's Rules of Practice and Procedure (19 CFR § 207.2(f)).

² Commissioner Pearson dissenting with respect to Venezuela.

Background

The Commission instituted these reviews on October 1, 2012 (77 FR 59970) and determined on January 4, 2013 that it would conduct full reviews (78 FR 4437, January 22, 2013). Notice of the scheduling of the Commission's reviews and of a public hearing to be held in connection therewith was given by posting copies of the notice in the Office of the Secretary, U.S. International Trade Commission, Washington, DC, and by publishing the notice in the Federal Register on February 21, 2013 (78 FR 13380). The hearing was held in Washington, DC, on July 18, 2013, and all persons who requested the opportunity were permitted to appear in person or by counsel.

The Commission completed and filed its determinations in these reviews on September 18, 2013. The views of the Commission are contained in USITC Publication 4424 (September 2013), entitled Silicomanganese from India, Kazakhstan, and Venezuela: Investigation Nos. 731-TA-929-931 (Second Review).

Issued: September 18, 2013.
By order of the Commission.
Lisa R. Barton,
Acting Secretary to the Commission.

[FR Doc. 2013-23118 Filed 9-23-13; 8:45 am]

BILLING CODE 7020-02-P